DEPARTMENT OF HOMELAND SECURITY

8 CFR Chapter I

Ratification of Department Actions

AGENCY: Department of Homeland Security (DHS).

ACTION: Ratification.

SUMMARY: The Department of Homeland Security, through its Acting Secretary, is publishing a notice of the ratification of a number of previous actions by the Department. The ratification provides the public with certainty, by resolving any potential defect in the validity of those actions.

DATES: The ratification was signed on October 7, 2020, and relates back to the original date of each action that it ratifies.

FOR FURTHER INFORMATION CONTACT: Leo (Chip) Boucher, Assistant General Counsel, Administrative Law, Office of the General Counsel, Department of Homeland Security Washington, DC 20528, (202) 282-9822.

SUPPLEMENTARY INFORMATION: The Department of Homeland Security, through its Acting Secretary, is ratifying a number of previous actions by former Acting Secretary Kevin K. McAleenan and one previous action by U.S. Citizenship and Immigration Services Deputy Director for Policy Joseph Edlow. The Department continues to maintain that the prior succession order designating Kevin K. McAleenan as Acting Secretary was valid and that Acting Secretary McAleenan had the authority to take the actions being ratified in the appendix. The Department issued this ratification and is now publishing it in the Federal Register out of an abundance of caution. Neither the ratification nor the publication is a statement that the ratified actions would be invalid absent the ratification.

Ian Brekke,
Deputy General Counsel, U.S. Department of Homeland Security.

APPENDIX

BILLING CODE 9112-FP-P

[FR Doc. 2020-23067 Filed 10-14-20; 4:15 pm]

BILLING CODE 9112-FP-C